DEPARTMENT OF HOMELAND SECURITY

Coast Guard

33 CFR Part 165

[Docket No. USCG-2024-0458]

Safety Zone; Annual Fireworks Displays and Other Events in the Eight Coast Guard District Requiring Safety Zones—Go 4th New Orleans Independence Day Celebration

AGENCY: Coast Guard, DHS.

ACTION: Notification of enforcement of regulation.

SUMMARY: The Coast Guard will enforce a safety zone for the Go 4th New Orleans Independence Day Celebration fireworks display located on the navigable waters of the Lower Mississippi River. This action is necessary to provide for the safety of life on these navigable waterways during this event. During the enforcement periods, entry into this safety zone is prohibited unless authorized by the Captain of the Port or a designated representative.

DATES: The regulations in 33 CFR 165.801, will be enforced for the location identified in item 3 of table 5 to § 165.801, from 8:30 p.m. through 9:30 p.m. on July 4, 2024.

FOR FURTHER INFORMATION CONTACT: If you have questions about this notification of enforcement, call or email Lieutenant Commander Xiaobin Tuo, Sector New Orleans, U.S. Coast Guard; telephone 504-269-7251, email Xiaobin.Tuo@uscg.mil.

SUPPLEMENTARY INFORMATION: The Coast Guard will enforce a safety zone in 33 CFR 165.801, table 5 to § 165.801, item 3 for the Go 4th New Orleans Independence Day Celebration fireworks display event. This safety zone will be enforced from 8:30 p.m. through 9:30 p.m. on July 4, 2024. This action is being taken to provide for the safety of life on these navigable waterways during this event. Our regulation for annual fireworks displays and other events in the Sector New Orleans Annual and Recurring Safety Zones in § 165.801, table 5 to § 165.801, item 3, specifies the location of the regulated area on the Lower Mississippi River, between mile marker (MM) 94.3 and MM 95.3. During the enforcement period, as reflected in § 165.801(a), entry into this safety zone is prohibited unless authorized by the Captain of the Port or a designated representative.

In addition to this notification of enforcement in the Federal Register, the Coast Guard plans to provide notification of this enforcement period via a Marine Safety Information Bulletin and/or Broadcast Notice to Mariners.

Dated: June 20, 2024.
G.A. Callaghan,
Captain, U.S. Coast Guard, Captain of the Port Sector New Orleans.

[FR Doc. 2024-14034 Filed 6-26-24; 8:45 am]

BILLING CODE 9110-04-P